DEPARTMENT OF ENERGY

Federal Energy Regulatory Commission

[Docket No. RP01-260-000]

Reliant Energy Gas Transmission Company; Notice of Tariff Filing

March 7, 2001.

Take notice that on March 1, 2001, Reliant Energy Gas Transmission Company (REGT) tendered for filing as part of its FERC Gas Tariff, Fifth Revised Volume No. 1, the following revised tariff sheets to become effective April 1, 2001:

Fifth Revised Sheet No. 5

Fifth Revised Sheet No. 6

Sixth Revised Sheet No. 6

REGT states that the revised tariff sheets are filed in compliance with the Stipulation and Agreement (Settlement) approved by Commission order in Docket No. RP91-149 on March 31, 1992. Arkla Energy Resources, a division of Arkla, Inc. 58 FERC ¶ 61,359 (1992). REGT's March 1, 2001 filing is its ninth annual filing pursuant to the Settlement, and it proposes to continue the currently effective rate for the CSC Charge as provided in the Settlement, at $0.03 per Dth.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-222 for assistance). Comments and protests may be filed electronically via the internet in lieu of paper. See, 18 CFR 385.2001(a)(1)(iii) and the instructions on the Commission's web site at http://www.ferc.fed.us/efi/doorbell.htm.

David P. Boergers,
Secretary.

[FR Doc. 01-6161 Filed 3-12-01; 8:45 am]

BILLING CODE 6717-01-M